DEPARTMENT OF HEALTH AND HUMAN SERVICES

Health Resources and Services Administration

Agency Information Collection Activities: Proposed Collection: Comment Request

In compliance with the requirement for opportunity for public comment on proposed data collection projects (44 U.S.C. 3506(c)(2)(A)), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Organ Procurement and Transplantation Network (OMB No. 0915-0286)—Extension

The Organ Procurement and Transplantation Network (OPTN) necessitates certain recordkeeping and reporting requirements in order to perform the functions related to organ transplantation under contract to HHS. OMB requires review and approval of recordkeeping and reporting requirements associated with the final rule governing the operation of the OPTN (42 CFR Part 121) related to Secretarial review and appeals. There are recordkeeping and reporting requirements associated with the process for filing appeals in the case where applicants are rejected for membership or designation in the OPTN. To date, no appeals have been filed. The burden requirements for this process are minimal. The estimate of burden for this process consists of preparing a letter requesting reconsideration and compiling supporting documentation.

The estimated annual burden is as follows:

Section of final rule | Number of respondents | Responses per respondent | Total responses | Hours per response | Total burden hours
42 CFR 121.3(c)(4) Appeal for OPTN membership | 2 | 1 | 2 | 3 | 6
42 CFR 121.9(d) Appeal for designation | 2 | 1 | 2 | 6 | 12
Total | 4 |  | 4 |  | 18

Send comments to Susan G. Queen, PhD, HRSA Reports Clearance Officer, Room 10-33, Parklawn Building, 5600 Fishers Lane, Rockville, MD 20857. Written comments should be received within 60 days of this notice.

Dated: March 5, 2007.
Alexandra Huttinger,
Acting Director, Division of Policy Review and Development.

[FR Doc. E7-4412 Filed 3-9-07; 8:45 am]

BILLING CODE 4165-15-P